DEPARTMENT OF TRANSPORTATION

Federal Highway Administration

Environmental Impact Statement (EIS): Westchester County

AGENCY: Federal Highway Administration (FHWA), United States Department of Transportation (DOT).

ACTION: Rescinded notice of intent (NOI).

SUMMARY: The FHWA is issuing this rescinded NOI to advise the public that the FHWA will not be preparing and issuing an Environmental Impact Statement (EIS) on a proposal to improve NYS Route 9A in the Towns of Greenburgh and Mount Pleasant and the Village of Elmsford, Westchester County, New York [New York State Department of Transportation (NYSDOT) Project Identification Number (PIN) 8103.22]. The NOI to prepare an EIS was published in the Federal Register on March 11, 2002.

FOR FURTHER INFORMATION CONTACT: Lance MacMillan, Regional Director, New York State Department of Transportation, 4 Burnett Boulevard, Poughkeepsie, New York 12603, Telephone: (845) 431-5750; or Richard Marquis, Division Administrator, Federal Highway Administration, New York Division, Leo W. O'Brien Federal Building, 7th Floor, 11A Clinton Avenue, Albany, New York 12207, Telephone (518) 431-4127.

SUPPLEMENTARY INFORMATION: The FHWA, in coordination with the NYSDOT, previously intended to prepare an EIS to evaluate the effects of a proposal to improve NYS Route 9A in the Towns of Greenburgh and Mount Pleasant and the Village of Elmsford, Westchester County, New York. The proposed improvements involved the reconstruction of approximately 2.5 miles of the existing route from just south of Route 119 to just north of Route 100C. The objectives of the proposal include “to mitigate existing vehicular congestion and delays and accommodate future vehicular growth; correct identified safety problems with appropriate accident countermeasures; and provide a safer and convenient multi-modal facility for transit, cyclist, and pedestrian traffic.”

The project was initiated to address structural deficiencies on the existing Route 100C bridge over Route 9A; deterioration of the Route 9A Portland cement concrete pavement; inadequacies of the existing drainage system along Route 9A; and sidewalk deficiencies along Route 9A within the project limits. As stated in the original NOI, alternatives under consideration included: (1) Taking no actions; (2) widening and reconstructing Route 9A; (3) widening and reconstructing Route 9A and providing a new eastbound Cross Westchester Expressway (I-287) off ramp; (4) widening and reconstructing Route 9A, providing new eastbound Cross Westchester Expressway (I-287) off ramp, and improving access to major industrial/commercial area; and (5) constructing a bypass on new alignment in association with the widening and reconstruction of Route 9A. These potential alternatives, except for taking no actions, included the common elements of widening and reconstructing Route 9A and replacing the Route 100C bridge over Route 9A. The project would have required the removal of 18 buildings (one residence and 17 commercial structures). In 2002 dollars, the total estimated cost of the action was between 37 and 79 million dollars. Due to the effects of the right-of-way acquisitions and insufficient funding for the project, the project was not advanced as originally envisioned. In addition, the widening of Route 9A and the construction of a new I-287 eastbound exit ramp are no longer being considered.

The identified operational deficiencies at the Route 9A intersection with Route 119 have been addressed as part of a separate, independent action to improve vehicle capacity, improve pedestrian safety, maintain parking, and improve intersection geometrics via provision of left turn lanes and protected left turn signal phases (NYSDOT PIN 8103.37). The existing Route 100C over Route 9A bridge has also been replaced as part of a separate, independent action to address numerous structural deficiencies (NYSDOT PIN 8025.00).

The NYSDOT will be evaluating improvements to provide access from Route 119 and the eastbound Cross Westchester Expressway (I-287) to the Warehouse Lane/Route 9A intersection (NYSDOT PIN 8103.52). This independent action will have a unique project purpose and objectives.

Comments and questions concerning the proposed action should be directed to the FHWA contact person at the address provided above.

Issued on: November 25, 2019.
Richard Marquis,
New York Division Administrator, Albany, New York.

[FR Doc. 2019-26181 Filed 12-3-19; 8:45 am]

BILLING CODE 4910-RY-P